DEPARTMENT OF COMMERCE

Foreign-Trade Zones Board

[Docket 45-2006]

Foreign-Trade Zone 86—Tacoma, WA, Request for Manufacturing, Authority (Home Theater System Kits)

An application has been submitted to the Foreign-Trade Zones Board (the Board) by the Port of Tacoma (Washington), grantee of Foreign-Trade Zone (FTZ) 86, requesting authority on behalf of Panasonic Consumer Electronics Co. (PCEC) and its warehouse/FTZ operator, Norvanco International Inc. (Norvanco), for the manufacture (kitting) of home theater systems under FTZ procedures. (Norvanco/PCEC has already been approved for this activity through November 2008 under FTZ temporary/interim manufacturing procedures.) The application was submitted pursuant to the provisions of the Foreign-Trade Zones Act, as amended (19 U.S.C. 81a-81u), and the regulations of the Board (15 CFR part 400). It was formally filed on November 8, 2006.

Norvanco operates a facility (100 employees) in Sumner, Washington, within Site 6 of FTZ 86, that will be used for the kitting of home theater systems (HTSUS 8527.31). The finished products would enter the United States duty free. Imported components/inputs that may be admitted under FTZ procedures are subwoofers (HTSUS 8518.21) and speaker boxes (HTSUS 8518.22). Since submission of the application to the FTZ Board, the applicant has clarified that it is not seeking authority for a third listed input—packing materials—to be admitted to the FTZ other than as ancillary to the other listed components. Duty rates on the two proposed imported components are currently 4.9 percent ad valorem.

This application requests authority for Norvanco to conduct the kitting activity under FTZ procedures on behalf of PCEC, which would allow the company to choose the duty rate that applies to the finished product for the foreign components noted above. Norvanco/PCEC also anticipates realizing logistical savings. The application indicates that the proposed kitting activity is currently performed abroad and that FTZ-related savings would enable the shifting of that activity to Norvanco's Washington facility, thereby helping to improve the facility's international competitiveness.

In accordance with the Board's regulations, a member of the FTZ Staff has been designated examiner to investigate the application and report to the Board.

Public comment is invited from interested parties. Submissions (original and 3 copies) shall be addressed to the Board's Executive Secretary at the address listed below. The closing period for their receipt is January 29, 2007. Rebuttal comments in response to material submitted during the forgoing period may be submitted during the subsequent 15-day period (to February 13, 2007).

A copy of the application and accompanying exhibits will be available for public inspection at each of the following locations: The Seattle U.S. Export Assistance Center, 2601 Fourth Avenue, Suite 320, Seattle, WA 98121; and Office of the Executive Secretary, Foreign-Trade Zones Board, Room 2814B, U.S. Department of Commerce, 1401 Constitution Avenue, NW., Washington, DC 20230.

Dated: November 21, 2006.
Pierre V. Duy,
Acting Executive Secretary.

[FR Doc. E6-20292 Filed 11-29-06; 8:45 am]

BILLING CODE 3510-DS-P